DEPARTMENT OF AGRICULTURE

Commodity Credit Corporation

Types and Quantities of Agricultural Commodities Available for Donation Overseas Under Section 416(b) of the Agricultural Act of 1949, as Amended, in Fiscal Year 2004

AGENCY: Commodity Credit Corporation, USDA.

ACTION: Notice.

SUMMARY: On November 12, 2003, the President, Commodity Credit Corporation (CCC), who is the Under Secretary of Agriculture for Farm and Foreign Agricultural Services, determined that 100,000 metric tons of nonfat dry milk in CCC inventory will be made available for donation overseas under section 416(b) of the Agricultural Act of 1949, as amended, during fiscal year 2004.

FOR FURTHER INFORMATION CONTACT: William Hawkins, Director, Program Administration Division, FAS, USDA, (202) 720-3241, William.Hawkins@fas.usda.gov.

Dated: November 12, 2003.
A. Ellen Terpstra,
Vice President, Commodity Credit Corporation.

[FR Doc. 03-28830 Filed 11-18-03; 8:45 am]

BILLING CODE 3410-10-M